DEPARTMENT OF HEALTH AND HUMAN SERVICES

Health Resources and Services Administration

Notice of Request for Public Comment on Proposed Update to the Bright Futures Periodicity Schedule as Part of the HRSA-Supported Preventive Services Guidelines for Infants, Children, and Adolescents

AGENCY: Health Resources and Services Administration (HRSA), Department of Health and Human Services.

ACTION: Notice.

SUMMARY: This notice seeks public comment on a proposed update to the Periodicity Schedule of the Bright Futures Recommendations for Pediatric Preventive Health Care (“Bright Futures Periodicity Schedule”), as part of the HRSA-supported preventive services guidelines for infants, children, and adolescents.

DATES: Members of the public are invited to provide written comments on the proposed update no later than November 24, 2023. All comments received on or before this date will be reviewed and considered by the Bright Futures Periodicity Schedule Working Group and provided for further consideration by HRSA in determining the recommended updates that it will support.

ADDRESSES: Members of the public interested in providing comments can do so by accessing the public comment web page at: www.aap.org/en/forms/bright-futures-american-academy-of-pediatrics-recommendations-preventive-health-care/.

FOR FURTHER INFORMATION CONTACT: Savannah Kidd, M.S., M.F.T.; Senior Public Health Analyst; Division of Child, Adolescent, and Family Health; Maternal and Child Health Bureau; HRSA; email: SKidd@hrsa.gov, telephone: 301-287-2601.

SUPPLEMENTARY INFORMATION: The Bright Futures Periodicity Schedule is maintained through a cooperative agreement, the Infant, Child, and Adolescent Preventive Services Program, for which the American Academy of Pediatrics (AAP) is the current recipient. When its preventive care and screening recommendations have been accepted by HRSA, the Bright Futures Periodicity Schedule is part of the HRSA-supported preventive services guidelines for infants, children, and adolescents. Under section 2713 of the Public Health Service Act (42 U.S.C. 300gg-13) and pertinent regulations, non-grandfathered group health plans and health insurance issuers must provide coverage, without cost sharing, for certain preventive services for plan years (in the individual market, policy years) that begin on or after the date that is 1 year after the date the recommendation or guideline is issued. These include HRSA-supported preventive health services provided for in the Bright Futures Periodicity Schedule as part of the HRSA-supported preventive services guidelines for infants, children, and adolescents under 42 U.S.C. 300gg-13(a)(3).

Through the Infant, Child, and Adolescent Preventive Services cooperative agreement, the AAP is required to administer a process for developing and regularly recommending, as needed, updates to the Bright Futures Periodicity Schedule through a comprehensive, objective, and transparent review of available evidence that incorporates opportunity for public comment. Accordingly, AAP reviews the evidence to determine whether updates are needed, develops recommended updates, seeks and considers public comments, and makes recommendations to HRSA. The proposed update to the Bright Futures Periodicity Schedule includes additions to existing footnotes, which provide up-to-date information and recommendations to providers but will not change the clinical recommendations and associated requirement for coverage without cost-sharing under section 2713 of the Public Health Service Act. The footnotes that AAP proposes to be revised are as follows:

1. Footnote 4, relating to the first week well-child visit, also called the 3-5 Day Visit, will be revised with an updated reference that aligns with the Bright Futures recommendation regarding providers helping families that choose to breastfeed.

2. Footnote 5, relating to Body Mass Index, is the Clinical Practice Guideline for the Evaluation and Treatment of Children and Adolescents with Obesity (https://doi.org/10.1542/peds.2022-060640) published in the January 2023 issue of Pediatrics. This updated reference aligns with the Bright Futures recommendation regarding measuring body mass index starting at the 24-month visit through the 21-year visit and provides non-stigmatizing recommendations for evaluating and treating children who are experiencing weight gains.

3. Footnote 14, relating to Behavioral/Social/Emotional Screening, is the U.S. Preventive Services Task Force Recommendation Statement, Screening for Anxiety in Children and Adolescents (https://www.uspreventiveservicestaskforce.org/uspstf/recommendation/screening-anxiety-children-adolescents) published in the October 2022 issue of the Journal of the American Medical Association. This additional reference aligns with the Bright Futures recommendation to use screening instruments to better identify children experiencing anxiety, followed by a confirmatory diagnostic assessment and follow-up.

4. Footnote 15, relating to Tobacco, Alcohol, or Drug Use Assessment, is the Centers for Disease Control and Prevention's Evidence-Based Strategies for Preventing Opioid Overdose: What's Working in the United States (https://www.cdc.gov/drugoverdose/pdf/pubs/2018-evidence-based-strategies.pdf) and the National Institute on Drug Abuse's policy brief, Naloxone for Opioid Overdose: Life-Saving Science (https://nida.nih.gov/publications/naloxone-opioid-overdose-life-saving-science). The proposed footnote aligns with the Bright Futures recommendation to assess patients for substance use with a validated screening tool. These additional references also describe the utility of prescribing Naloxone if there is concern for substance or opioid use.

5. Footnote 21, relating to Newborn Bilirubin Screening, is Management of Hyperbilirubinemia in the Newborn Infant 35 or More Weeks of Gestation (https://doi.org/10.1542/peds.2022-058859), published in the August 2022 issue of Pediatrics. This reference aligns with the Bright Futures recommendation for universal bilirubin screening for all newborn infants between 24 and 28 hours after birth.

6. Footnote 35, relating to Oral Health, is Maintaining and Improving the Oral Health of Young Children (https://doi.org/10.1542/peds.2022-060417), published in the December 2022 issue of Pediatrics. This reference aligns with the Bright Futures recommendation that every child has a dental home by 1 year of age. Additionally, the updated reference encourages providers to screen for social determinants of health, as well as access to medical and dental care, as they influence oral health status and oral health inequities.

With respect to Footnote 15, HRSA welcomes comment on the evidence regarding the effect of prescribing Naloxone in the setting of a primary care preventive visit on preventing or reducing opioid overdoses and opioid overdose deaths.

Authority: Section 2713(a)(3) of the Public Health Service Act, 42 U.S.C. 300gg-13(a)(3).

Carole Johnson,
Administrator.

[FR Doc. 2023-23396 Filed 10-23-23; 8:45 am]

BILLING CODE 4165-15-P